DEPARTMENT OF TRANSPORTATION

Federal Aviation Administration

Notice of Intent To Rule on Passenger Facility Charge (PFC) Application 10-07-C-00-LAX, To Impose and Use PFC Revenue at Los Angeles International Airport, Los Angeles, CA

AGENCY: Federal Aviation Administration (FAA), DOT.

ACTION: Notice of Intent to rule on application.

SUMMARY: The FAA proposes to rule and invites public comment on the application to impose and use PFC revenue at Los Angeles International Airport, under the provisions of the Aviation Safety and Capacity Expansion Act of 1990 (Title IX of the Omnibus Budget Reconciliation Act of 1990) (Pub. L. 101-508) and Part 158 of the Federal Aviation Regulations (14 CFR part 158).

DATES: Comments must be received on or before April 14, 2010.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. Steve Martin, Chief Operating Officer, Los Angeles World Airports, at the following address: One World Way, P.O. Box 92216, Los Angeles, CA 90009. Air carriers and foreign air carriers may submit copies of written comments previously provided to the Los Angeles World Airports under section 158.23 of Part 158.

FOR FURTHER INFORMATION CONTACT: Darlene Williams, Airport Planner/PFC Specialist, Los Angeles Airports District Office, 15000 Aviation Blvd., Room 3000, Lawndale, CA 90261, Telephone: (310) 725-3625. The application may be reviewed in person at this same location.

SUPPLEMENTARY INFORMATION: The FAA proposes to rule and invites public comment on the application to impose and use PFC revenue at Los Angeles International Airport under the provisions of the 49 U.S.C. 40117 and Part 158 of the Federal Aviation Regulations (14 CFR part 158). On March 1, 2010, the FAA determined that the application to impose and use PFC submitted by the Los Angeles World Airports was substantially complete within the requirements of section 158.25 of part 158. The FAA will approve or disapprove the application, in whole or in part, no later than June 9, 2010.

The following is a brief overview of the impose and use application No. 10-07-C-00-LAX:

Proposed charge effective date: June 1, 2012.

Proposed charge expiration date: March 1, 2019.

Level of the proposed PFC: $4.50.

Total estimated PFC revenue: $855,000,000.

Description of proposed project:

Impose and use: Bradley West Project—This project will improve and expand the existing Tom Bradley International Terminal (TBIT) to accommodate new large aircraft and construct new concourses to the north and south of TBIT to replace the existing concourses.

Class or classes of air carriers which the public agency has requested not be required to collect PFCs: Nonscheduled/on demand air carriers, filing FAA Form 1800-31.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at Los Angeles World Airport.

Issued in Lawndale, California, on March 2, 2010.
Debbie Roth,
Acting Manager, Airports Division, Western-Pacific Region.

[FR Doc. 2010-5285 Filed 3-12-10; 8:45 am]

BILLING CODE 4910-13-M